ENVIRONMENTAL PROTECTION AGENCY

[OAR-2003-0034, FRL-7958-6]

Agency Information Collection Activities; Proposed Collection; Comment Request; Reporting Requirements Under EPA's Voluntary Aluminum Industrial Partnership (VAIP), EPA ICR Number 1867.03, OMB Control Number 2060-0411

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on 12/30/05. Before submitting the ICR to OMB for review and approval, EPA is soliciting comments on specific aspects of the proposed information collection as described below.

DATES: Comments must be submitted on or before October 24, 2005.

ADDRESSES: Submit your comments, referencing docket ID number OAR-2003-0034, to EPA online using EDOCKET (our preferred method), by e-mail to a-and-r-Docket@epa.gov, or by mail to: EPA Docket Center, Environmental Protection Agency, Air and Radiation Docket, 6102T, 1200 Pennsylvania Ave., NW., Washington, DC 20460.

FOR FURTHER INFORMATION CONTACT: Sally Rand, Office of Atmospheric Programs, 6207J, Environmental Protection Agency, 1200 Pennsylvania Ave., NW., Washington, DC 20460; telephone number: 202-343-9739; fax number: 202-343-2208; e-mail address: rand.sally#epa.gov.

SUPPLEMENTARY INFORMATION: EPA has established a public docket for this ICR under Docket ID number OAR-2003-0034, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected Entities: Entities potentially affected by this action are those engaged in primary aluminum production.

Title: Reporting Requirements under the Voluntary Aluminum Industrial Partnership (VAIP).

Abstract: EPA's Voluntary Aluminum Industrial Partnership (VAIP) was initiated in 1995 and is an important voluntary program contributing to the overall reduction in emissions of greenhouse gases. This program focuses on reducing direct greenhouse gas emissions including perfluocorcarbon (PFC) and carbon dioxide (CO2) emissions from the production of primary aluminum. Seven of the eight U.S. producers of primary aluminum participate in this program. PFCs are very potent greenhouse gases with global warning potentials several thousand times that of carbon dioxide and they persist in the atmosphere for thousands of years. CO2 is emitted from consumption of the carbon anode. EPA has developed this ICR to renew authorization to collect information from companies in the VAIP. Participants voluntarily agree to the following: designating a VAIP liaison; undertaking technically feasible and cost-effective actions to reduce PFC and direct CO2 emissions; and reporting to EPA, on an annual basis, the PFC and CO2 emissions or production parameters used to estimate emissions. The information contained in the annual reports of VAIP members is used by EPA to assess the success of the program in achieving its goals. The information contained in the annual reports may be considered confidential business information and is maintained as such. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The VAIP is a continuing program and, as such, the burden for collecting relevant information has not changed significantly overtime as data collection processes have remained the same and no new one-time cost activities are expected that would impact all respondents. VAIP participants sign a voluntary Memorandum of Understanding (MOU) which assigns responsibilities to EPA and participating companies. The MOU has been signed each of the seven participating companies and not expected to be revised or renewed. The annual public reporting and recordkeeping burden for this collection of information is estimated to average 98.5 hours per response. The projected hour burden for this collection of information is as follows:

Average Annual Reporting Burden: 82 hours.

Average Annual RecordKeeping Burden: 0 hours.

Average Burden Hours/Response: 82 hours for the annual tracking report; and 16.5 hours associated with additional activities such as partnership meetings. Frequency of response=one per respondent per year. Estimated number of respondents per year=7. Cost burden to respondents ($7,354 per respondent).

Estimated Total Annualized Cost Burden: $51,478.

Total Labor Costs: $51,478.

Total Capital and Start-up Costs: $0.

Estimated Total Operation and Maintenance Costs: $0.

Purchase of Services Costs: $0.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review and collection of information; and transmit or otherwise disclose the information.

Dated: August 16, 2005.
Francisco de la Chesnaye,
Acting Director, Climate Protection Division.

[FR Doc. 05-16935 Filed 8-24-05; 8:45 am]

BILLING CODE 6560-50-M